DEPARTMENT OF HOMELAND SECURITY

Coast Guard

33 CFR Part 165

[Docket No. USCG-2008-0560]

RIN 1625-AA08

Elliot Bay, Seattle, WA

AGENCY: Coast Guard, DHS.

ACTION: Notice of enforcement of regulation.

SUMMARY: The Coast Guard will enforce the annual Elliot Bay Seattle, WA safety zone in Elliot Bay from 9:30 p.m. to 11 p.m. on July 4th, 2008. This action is necessary to ensure the safety of participants and spectators during the Ivar's Spectacular Fireworks show. During the enforcement period, entry into, transit through, mooring, or anchoring within this zone is prohibited unless authorized by the Captain of the Port, Puget Sound or his designated representatives.

DATES: The regulations in 33 CFR 165.1307 will be enforced from 9:30 p.m. to 11 p.m. on July 4th, 2008.

FOR FURTHER INFORMATION CONTACT: Ensign Heidi Bevis, c/o Captain of the Port Puget Sound, Coast Guard Sector Seattle, 1519 Alaskan Way South, Seattle, WA 98134 at (206) 217-6002.

SUPPLEMENTARY INFORMATION: The Coast Guard will enforce the safety zone for Elliot Bay, Seattle, WA Fireworks Show, 33 CFR 165.1307 from 9:30 p.m. to 11 p.m. on July 4th, 2008.

This safety zone provides for a regulated area to protect spectators while providing unobstructed vessel traffic lanes to ensure timely arrival of emergency response craft. Movements are regulated for all vessels in the area as described under 33 CFR 165.1307 or unless otherwise regulated by the COTP or his designee. The Coast Guard may be assisted by other Federal, State, or local law enforcement agencies in enforcing this safety zone.

Under the provisions of 33 CFR 165.1307, all waters of Elliott Bay within a box bounded by the points: 47°37′22″ N, 122°22′06″; 47°37′06″ N, 122°21′45″; 47°36′54″ N, 122°22′05″; 47°37′08″ N, 122°22′27″; thence returning to the origin. The safety zone resembles a square centered around the barge from which the fireworks will be launched and begins 100 yards off the shore of Myrtle Edwards Park. Floating markers will be placed by the sponsor of the fireworks display to delineate the boundaries of the safety zone.

The Coast Guard may be assisted by other Federal, State, or local law enforcement agencies in enforcing this regulation.

This notice is issued under authority of 33 CFR 165.1307(c) and 5 U.S.C. 552 (a).

Dated: June 18, 2008.
Stephen P. Metruck,
Captain, U.S. Coast Guard, Captain of the Port Puget Sound.

[FR Doc. E8-15038 Filed 7-1-08; 8:45 am]

BILLING CODE 9110-04-P